DEPARTMENT OF AGRICULTURE

Submission for OMB Review; Comment Request

October 5, 2020.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by November 9, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Appeals Division

Title: National Appeals Division Customer Service Survey.

OMB Control Number: 0503-0007.

Summary of Collection: The Secretary of Agriculture established the National Appeals Division (NAD) on October 20, 1994, by Secretary's Memorandum 1010-1, pursuant to the Federal Crop Insurance Reform and Department of Agriculture Reorganization Act of 1994 (Pub. L. 103-354, Section 271, dated October 13, 1994). The Act consolidated the appellate functions and staffs of several USDA agencies. The intent is to provide for independent hearing and review determinations that resulted from Agency adverse decisions. Administrative Judges conduct evidentiary hearing on adverse decisions or, when the appellant requests they review the Agency's record of the adverse decision without a hearing. NAD maintains a database to track appeal requests, the database contains only information necessary to process the appeal request, such as the name, address, filing data, and final results of the appeal. NAD will collect information using a survey.

Need and Use of the Information: NAD wants to gather current data to measure the appellant's perception of the quality of how easy the determination was to read; how intently the Administrative Judge listened to the appellant; and how courteous the Administrative Judge was during the appeal process. NAD will also use the information gathered from its surveys to tailor and prioritize training. Failure to collect this information will not impede NAD's ability to conduct administrative appeals; however, it will impair NAD's ability to develop and improve Customer Service Standards.

Description of Respondents: Individuals or households.

Number of Respondents: 2,400.

Frequency of Responses: Reporting: Annually.

Total Burden Hours: 353.

Ruth Brown,
Departmental Information Collection Clearance Officer.

[FR Doc. 2020-22348 Filed 10-7-20; 8:45 am]

BILLING CODE 3410-WY-P